DEPARTMENT OF ENERGY

Federal Energy Regulatory Commission

Notice of Application to Amend License and Soliciting Comments, Motions To Intervene, and Protests

May 30, 2001

Take notice that the following hydroelectric application has been filed with the Commission and is available for public inspection:

a: Application Type: Amendment to License.

b: Project No.: 2545-071.

c: Date Filed: May 29, 2001.

d: Applicant: Avista Corporation.

e: Name of Project: Spokane River Project; Monore Street dam.

f: Location: The Spokane River Project is on the Spokane River in Spokane, Stevens, and Lincoln Counties, Washington and Kootenai County, Idaho. The project occupies the following tribal lands: Spokane Tribe and Coeur d'Alene Indian Reservation.

g. Filed Pursuant to: Federal Power Act, 16 U.S.C. 791(a)-825(r).

h: Applicant Contact: Steven A. Fry, Avista Corporation, P.O. Box 3727, Spokane, WA 99220-3727; (509) 495-4084.

i. FERC Contact: Steve Hocking at (202) 219-2656 or e-mail address: steve.hocking@ferc.fed.us. Please note the Commission cannot accept comments, terms and conditions, motions to intervene or protests sent by e-mail; these documents must be filed as described below.

j. Deadline for filing comments, terms and conditions, motions to intervene, and protests: June 19, 2001.

All documents (original and eight copies) should be filed with: David P. Boergers, Secretary, Federal Energy Regulatory Commission, 888 First Street, NE., Washington, DC 20426. Comments, protests, and interventions may be filed electronically via the internet in lieu of paper. See 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Application: Article 30 of the existing license requires Avista Corporation to spill at least 200 cubic feet per second (cfs) of water over the Monroe Street dam every day during viewing hours (10:00 am to one-half hour after sunset) for aesthetic purposes. Avista Corporation requests a temporary waiver of article 30 so it does not have to spill 200 cfs from June 30 through November 15, 2001.

l. A copy of the application is available for inspection and reproduction at the Commission's Public Reference Room at 888 First Street NE., Room 2A, Washington, DC 20426, or by calling (202) 208-1371. The application may be viewed on the web at http://www.ferc.fed.us/online/rims.htm. Call (202) 208-2222 for assistance. A copy is also available for inspection and reproduction at the address in item (h) above.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 01-14011 Filed 6-4-01; 8:45 am]

BILLING CODE 6717-01-M